DEPARTMENT OF JUSTICE

Antitrust Division

Notice Pursuant to the National Cooperative Research and Production Act of 1993 National Fluid Power Association Technology Roadmap Joint Development Process

Notice is hereby given that, on May 21, 2009, pursuant to section 6(a) of the National Cooperative Research and Production Act of 1993, 15 U.S.C. 4301 et seq. (“the Act”), National Fluid Power Association Technology Roadmap Joint Development Process (“NFPA Technology Roadmap”) has filed written notifications simultaneously with the Attorney General and the Federal Trade Commission disclosing (1) The identities of the parties to the venture and (2) the nature and objectives of the venture. The notifications were filed for the purpose of invoking the Act's provisions limiting the recovery of antitrust plaintiffs to actual damages under specified circumstances.

Pursuant to section 6(b) of the Act, the identities of the parties to the venture are: Bimba Manufacturing, Monee, IL; Bosch Rexroth, Hoffman Estates, IL; Caterpillar, Joliet, IL; Center for Compact and Efficient Fluid Power, Minneapolis, NN; Deltrol Fluid Products, Bellwood, IL; Eaton Corporation, Eden Prairie, NN; Enfield Technologies, Trumbull, CT; Festo Corporation, Hauppauge, NY; Gates Corporation, Denver, CO; HUSCO International, Waukesha, WI; Lynch Fluid Controls, Mississauga, Ontario, Canada; Moog, East Aurora, IL; National Fluid Power Association, Milwaukee, WI; Pall Aeropower, Fort Myers, FL; Parker Hannif in, Cleveland, OH; Poclain Hydraulics, Sturtevant, WI; Quality Control, Chicago, IL; ROSS Controls, Troy, MI; Sauer-Danfoss, Ames, IA; Schmalz, Raleigh, NC; and Sun Hydraulics, Sarasota, FL.

The general area of NFPA's planned activity is the joint development of an action plan to identify and prioritize research and development projects in the fluid power industry, specifically, research investments, capability developments, and skills acquisitions needed to achieve advancement in hydraulics and pneumatics technology to meet future fluid power needs. For more information concerning the joint activities, please contact Eric Lanke, CAE, Executive Director of the National Fluid Power Association at 3333 N. Mayfair Rd., Suite 211, Milwaukee, WI 53222.

Patricia A. Brink,
Deputy Director of Operations, Antitrust Division.

[FR Doc. E9-16688 Filed 7-14-09; 8:45 am]

BILLING CODE 4410-11-M